FEDERAL COMMUNICATIONS COMMISSION

[Report No. 2923]

Petition for Reconsideration of Action in Rulemaking Proceeding

December 3, 2010.

A Petition for Reconsideration has been filed in the Commission's Rulemaking proceeding listed in this document and published pursuant to 47 CFR 1.429(e). The full text of this document is available for viewing and copying in Room CY-B402, 445 12th Street, SW., Washington, DC, or may be purchased from the Commission's copy contractor, Best Copy and Printing, Inc. (BCPI) (1-800-378-3160). Oppositions to this petition must be filed by December 29, 2010. See Section 1.4(b)(1) of the Commission's rules (47 CFR 1.4(b)(1)). Replies to an opposition must be filed within 10 days after the time for filing oppositions has expired.

Subject: In the Matter of Amendment of Part 101 of the Commission's Rules to Accommodate 30 Megahertz Channels in the 6525-6875 MHz Band (WT Docket No. 09-114).

Amendment of Part 101 of the Commission's Rules to Provide for Conditional Authorization on Additional Channels in the 21.8-22.0 GHz and 23.0-23.2 GHz Band.

Number of Petitions Filed: 1.

Marlene H. Dortch,
Secretary.

[FR Doc. 2010-31354 Filed 12-13-10; 8:45 am]

BILLING CODE 6712-01-P